UNITED STATES INSTITUTE OF PEACE

Announcement of the Spring 2003 Solicited Grant Competition Grant Program

AGENCY: United States Institute of Peace.

ACTION: Notice.

SUMMARY: The Agency announces its Upcoming Spring 2003 Solicited Grant Competition. The solicited grant competition is restricted to projects that fit specific themes and topics identified in advance by the Institute of Peace.

The themes and topics for the Spring 2003 solicited competition are:

• Solicitation A: Democracy and governance in Muslim countries.

• Solicitation B: Education, conflict, and peacebuilding in ethnically divided societies and regions.

Deadline (Receipt of Application Material): March 1, 2003.

Notification of Awards: September 30, 2003.

Applications Material: Available upon request.

ADDRESSES: For more information and an application package: United States Institute of Peace, Grant Program, Solicited Grants, 1200 17th Street, NW., Suite 200, Washington, DC 20036-3011, (202) 429-3842 (phone), (202) 833-1018 (fax), (202) 457-1719 (TTY), E-mail: grant_program@usip.org.

Application material available on-line now at: http://www.usip.org/grants.html.

FOR FURTHER INFORMATION CONTACT: The Grant Program, phone (202) 429-3842.

Dated: November 12, 2002.
Bernice J. Carney,
Director, Office of Administration.

[FR Doc. 02-29111 Filed 11-15-02; 8:45 am]

BILLING CODE 6820-AR-M